DEPARTMENT OF COMMERCE

International Trade Administration

[A-533-843, A-570-901]

Notice of Postponement of Preliminary Determinations of Antidumping Duty Investigation: Certain Lined Paper Products from the People's Republic of China and India

AGENCY: Import Administration, International Trade Administration, Department of Commerce.

EFFECTIVE DATE: March 14, 2006.

FOR FURTHER INFORMATION CONTACT: For the People's Republic of China, contact Marin Weaver at (202) 482-2336 or Charles Riggle at (202) 482-0650, and for India, contact Christopher Hargett at (202) 482-4161, AD/CVD Operations, Import Administration, International Trade Administration, U.S. Department of Commerce, 14th Street and Constitution Avenue, NW, Washington, DC 20230.

SUPPLEMENTARY INFORMATION:

Postponement of Preliminary Determinations

On October 6, 2005, the Department of Commerce (“Department”) published the initiation of the antidumping duty investigations of certain lined paper products from India, Indonesia and the People's Republic of China. See Initiation of Antidumping Duty Investigations: Certain Lined Paper Products from India, Indonesia and the People's Republic of China, 70 FR 58374 (October 6, 2005). The notice of initiation stated that we would make our preliminary determinations for these antidumping duty investigations no later than 140 days after the date of issuance of the initiation. On February 10, 2006, the Department postponed the preliminary determinations by 30 days to March 18, 2006. See Notice of Postponement of Preliminary Determination of Antidumping Duty Investigation: Certain Lined Paper Products from the People's Republic of China, India, and Indonesia, 71 FR 7015 (February 10, 2006). On February 21, 2006, the Association of American School Paper Suppliers, and its individual members (“Petitioner”), made timely requests pursuant to 19 CFR §351.205(e) for an additional 20-day postponement of the preliminary determinations with respect to the antidumping duty investigations covering certain lined paper products (“CLPP”) from the People's Republic of China (PRC) and India. Petitioner requested postponement of the preliminary determinations because it will provide the Department additional time to review submitted questionnaire responses which Petitioner claims contain substantial deficiencies.

Under section 733(c)(1)(A) of the Tariff Act of 1930, as amended (“the Act”), if Petitioner makes a timely request for a postponement of the preliminary determination, the Department may postpone the preliminary determination under subsection (b)(1) until no later than the 190th day after the initiation of the investigation.

Therefore, for reasons identified by Petitioner, we are postponing the preliminary determinations with respect to the antidumping duty investigations of CLPP from the PRC and India under section 733(c)(1)(A) of the Act by an additional 20 days to April 7, 2006. Pursuant to section 735(a) of the Act, the deadline for the final determinations will continue to be 75 days after the date of the preliminary determinations, or if extended, up to 135 days after the date of publication of the preliminary determinations in the Federal Register.

This notice is issued and published pursuant to sections 733(c)(2) of the Act and 19 CFR 351.205(f)(1).

Dated: March 7, 2006.
David M. Spooner,
Assistant Secretary for Import Administration.

[FR Doc. E6-3620 Filed 3-13-06; 8:45 am]

BILLING CODE 3510-DS-S